DEPARTMENT OF ENERGY

Southeastern Power Administration

Proposed Rate Adjustment, Public Forum, and Opportunities for Public Review and Comment for Georgia-Alabama-South Carolina System of Projects

AGENCY: Southeastern Power Administration, DOE.

ACTION: Notice of proposed rate.

SUMMARY: Southeastern Power Administration (Southeastern) proposes to revise existing schedules of rates and charges applicable to the sale of power from the Georgia-Alabama-South Carolina System of Projects effective for a 4-year period, October 1, 2003, through September 30, 2007. Additionally, opportunities will be available for interested persons to review the present rates, the proposed rates and supporting studies, to participate in a forum and to submit written comments. Southeastern will evaluate all comments received in this process.

DATES: Written comments are due on or before July 15, 2003. A public information and comment forum will be held in Atlanta, Georgia, at 10 a.m., on May 29, 2003. Persons desiring to speak at the forum should notify Southeastern at least 3 days before the forum is scheduled, so that a list of forum participants can be prepared. Others may speak if time permits.

ADDRESSES: Written comments should be submitted to: Administrator, Southeastern Power Administration, Department of Energy, 1166 Athens Tech Road, Elberton, Georgia, 30635-6711. The public information and comment forum for the Georgia-Alabama-South Carolina System of Projects will be at the Westin Atlanta Airport, 4736 Best Road, Atlanta, Georgia (404) 762-7676.

FOR FURTHER INFORMATION CONTACT: Leon Jourolmon, Assistant Administrator, Finance & Marketing, Southeastern Power Administration, Department of Energy, 1166 Athens Tech Road, Elberton, Georgia, 30635, (706) 213-3800.

SUPPLEMENTARY INFORMATION: The Secretary of the Department of Energy (the Secretary), by order issued July 25, 2002 (67 FR 51564), confirmed and approved on an interim basis Wholesale Power Rate Schedules SOCO-1-A, SOCO-2-A, SOCO-3-A, SOCO-4-A, ALA-1-J, MISS-1-J, Duke-1-A, Duke-2-A, Duke-3-A, Duke-4-A, Santee-1-A, Santee-2-A, Santee-3-A, Santee-4-A, Pump 1-A , Pump-2, and Regulation-1 applicable to Georgia-Alabama-South Carolina System of Projects' power for a period ending September 30, 2007. These rate schedules have been submitted to the Federal Energy Regulatory Commission (FERC) in Docket No. EF02-3011-000 with a request for approval on a final basis.

Discussion: Existing rate schedules are predicated upon a June 2002 repayment study and other supporting data contained in FERC Docket No. EF02-3011-000. The current repayment study prepared in March 2003 shows that existing rates are not adequate to recover all costs required by present repayment criteria. Southeastern is proposing to establish rates that will recoup these unrecovered costs.

Existing rates for the Georgia-Alabama-South Carolina System have been in effect since October 1, 2002. Rates contained in FERC Docket No. ER02-3011-000 are predicated on a repayment study that did not include costs associated with pumped storage units at the Richard B. Russell project. Construction of the Russell pumped storage units was completed in 1993; however, U. S. District Court in Charleston, South Carolina, had issued an injunction prohibiting operation of these units. The injunction was entered on May 24, 1988. On May 3, 2002, the court dissolved this injunction. The Corps of Engineers declared these units commercially available on September 1, 2002. As of this date, Southeastern must include these costs in its costs for recovery.

Southeastern is proposing the following rate schedules to be effective for the period from October 1, 2003 through September 30, 2007.

Rate Schedule SOCO-1-B

Available to public bodies and cooperatives in Georgia, Alabama, Mississippi, and Florida to whom power may be wheeled and scheduled pursuant to contracts between the Government and Southern Company Services, Incorporated.

Rate Schedule SOCO-2-B

Available to public bodies and cooperatives in Georgia, Alabama, Mississippi, and Florida to whom power may be wheeled pursuant to contracts between the Government and Southern Company Services, Incorporated. The customer is responsible for providing a scheduling arrangement with the Government.

Rate Schedule SOCO-3-B

Available to public bodies and cooperatives in Georgia, Alabama, Mississippi, and Florida to whom power may be scheduled pursuant to contracts between the Government and Southern Company Services, Incorporated. The customer is responsible for providing a transmission arrangement.

Rate Schedule SOCO-4-B

Available to public bodies and cooperatives in Georgia, Alabama, Mississippi, and Florida. The customer is responsible for providing a scheduling arrangement with the Government and for providing a transmission arrangement.

Rate Schedule ALA-1-K

Available to the Alabama Electric Cooperative, Incorporated.

Rate Schedule MISS-1-K

Available to the South Mississippi Electric Power Association to whom power may be wheeled pursuant to contract between the Government and Alabama Electric Cooperative, Inc.

Rate Schedule Duke-1-B

Available to public bodies and cooperatives in North Carolina and South Carolina to whom power may be wheeled and scheduled pursuant to contracts between the Government and Duke Power Company.

Rate Schedule Duke-2-B

Available to public bodies and cooperatives in North Carolina and South Carolina to whom power may be wheeled pursuant to contracts between the Government and Duke Power Company. The customer is responsible for providing a scheduling arrangement with the Government.

Rate Schedule Duke-3-B

Available to public bodies and cooperatives in North Carolina and South Carolina to whom power may be scheduled pursuant to contracts between the Government and Duke Power Company. The customer is responsible for providing a transmission arrangement.

Rate Schedule Duke-4-B

Available to public bodies and cooperatives in North Carolina and South Carolina served through the transmission facilities of Duke Power Company. The customer is responsible for providing a scheduling arrangement with the Government and for providing a transmission arrangement.

Rate Schedule Santee-1-B

Available to public bodies and cooperatives in South Carolina to whom power may be wheeled and scheduled pursuant to contracts between the Government and South Carolina Public Service Authority.

Rate Schedule Santee-2-B

Available to public bodies and cooperatives in South Carolina to whom power may be wheeled pursuant to contracts between the Government and South Carolina Public Service Authority. The customer is responsible for providing a scheduling arrangement with the Government.

Rate Schedule Santee-3-B

Available to public bodies and cooperatives in South Carolina to whom power may be scheduled pursuant to contracts between the Government and South Carolina Public Service Authority. The customer is responsible for providing a transmission arrangement.

Rate Schedule Santee-4-B

Available to public bodies and cooperatives in South Carolina served through the transmission facilities of South Carolina Public Service Authority. The customer is responsible for providing a scheduling arrangement with the Government and for providing a transmission arrangement.

Rate Schedule SCE&G-1-B

Available to public bodies and cooperatives in South Carolina to whom power may be wheeled and scheduled pursuant to contracts between the Government and South Carolina Electric & Gas Company.

Rate Schedule SCE&G-2-B

Available to public bodies and cooperatives in South Carolina to whom power may be wheeled pursuant to contracts between the Government and South Carolina Electric & Gas Company. The customer is responsible for providing a scheduling arrangement with the Government.

Rate Schedule SCE&G-3-B

Available to public bodies and cooperatives in South Carolina to whom power may be scheduled pursuant to contracts between the Government and South Carolina Electric & Gas Company. The customer is responsible for providing a transmission arrangement.

Rate Schedule SCE&G-4-B

Available to public bodies and cooperatives in South Carolina served through the transmission facilities of South Carolina Electric & Gas Company. The customer is responsible for providing a scheduling arrangement with the Government and for providing a transmission arrangement.

Rate Schedule Pump-1-A

Available to all customers of the Georgia-Alabama-South Carolina System and applicable to energy from pumping operations at the Carters and Richard B. Russell projects.

Rate Schedule Pump-2

Available to public bodies and cooperatives who provide their own scheduling arrangement and elect to allow Southeastern to use a portion of their allocation for pumping.

Rate Schedule Regulation-1

Available to public bodies and cooperatives in Georgia, Alabama, Mississippi, Florida, South Carolina, or North Carolina to whom regulation service is provided pursuant to contracts between the Government and the customer.

Rate Schedule Replacement-1

Available to all customers in the Georgia-Alabama-South Carolina System and applicable to replacement energy.

The proposed rates for capacity, energy, and generation services are as follows:

Capacity: $3.73 per kw per month.

Energy: 9.22 mills per kwh.

Generation Services: $0.12 per kw per month.

Under this scenario, 75 per cent of generation revenues are recovered from capacity sales and 25 per cent are recovered from energy sales. These rates are expected to produce an average revenue increase of $26.4 million in FY 2004 and all future years.

The rates for transmission, scheduling, reactive supply, and regulation and frequency response apply to all four scenarios and are illustrated in Table 1.

Southeastern Power Administration Proposed Rates for Transmission Scheduling, Reactive, and Regulation Charges
Rate schedule | Transmission charge $/KW/month | Scheduling charge $/KW/month | Reactive charge $/KW/month | Regulation charge $/KW/month
SOCO-1-B | 2.08 | 0.0806 | 0.11 | 0.0483
SOCO-2-B | 2.08 | N/A | 0.11 | N/A
SOCO-3-B | N/A | 0.0806 | N/A | 0.0483
SOCO-4-B | N/A | N/A | N/A | N/A
ALA-1-K | N/A | N/A | N/A | N/A
MISS-1-K | 1.88 | N/A | N/A | N/A
Duke-1-B | 0.87 | N/A | N/A | N/A
Duke-2-B | 0.87 | N/A | N/A | N/A
Duke-3-B | N/A | N/A | N/A | N/A
Duke-4-B | N/A | N/A | N/A | N/A
Santee-1-B | 1.52 | N/A | N/A | N/A
Santee-2-B | 1.52 | N/A | N/A | N/A
Santee-3-B | N/A | N/A | N/A | N/A
Santee-4-B | N/A | N/A | N/A | N/A
SCE&G-1-B | 1.01 | N/A | N/A | N/A
SCE&G-2-B | 1.01 | N/A | N/A | N/A
SCE&G-3-B | N/A | N/A | N/A | N/A
SCE&G-4-B | N/A | N/A | N/A | N/A
Pump-1-A | N/A | N/A | N/A | N/A
Pump-2 | N/A | N/A | N/A | N/A
Regulation-1 | N/A | N/A | N/A | N/A
Replacement-1 | N/A | N/A | N/A | N/A

The referenced repayment studies are available for examination at 1166 Athens Tech Road, Elberton, Georgia 30635-6711. Proposed Rate Schedules SOCO-1-B, SOCO-2-B, SOCO-3-B, SOCO-4-B, ALA-1-K, MISS-1-K, Duke-1-B, Duke-2-B, Duke-3-B, Duke-4-B, Santee-1-B, Santee-2-B, Santee-3-B, Santee-4-B, SCE&G-1-B, SCE&G-2-B, SCE&G-3-B, SCE&G-4-B, Pump-1-A, Pump-2, Regulation-1, and Replacement-1 are also available.

Dated: March 28, 2003.
Charles A. Borchardt,
Administration.

[FR Doc. 03-9326 Filed 4-15-03; 8:45 am]

BILLING CODE 6450-01-P